DEPARTMENT OF JUSTICE

Notice of Lodging of Consent Decree Between the United States of America and Fremont Lumber Company, Kerr-McGee Company and Western Nuclear, Inc., Under the Comprehensive Environmental Response, Compensation, and Liability Act

Under 28 CFR 50.7, notice is hereby given that on October 14, 2005, a proposed Consent Decree (“Consent Decree”), in the case of United States v. Kerr-McGee Corp., et al., Civil Action No. 04-CV-00032 (D. OR.), has been lodged with the United States District Court for the District of Oregon.

The Complaint sought performance of work and the recovery of costs incurred in connection with the response action taken at the White King/Lucky Lass Superfund Site (“Site”) in Lakeview County, Oregon. Under the terms of this Consent Decree Defendants agree to: (1) Implement the remaining remedial action at the Site; (2) pay approximately $3 million in past costs incurred by EPA and the United States Department of Agriculture, Forest Service; (3) pay a civil penalty of $ 50,000; (4) perform a Supplemental Environmental Project for their failure to timely comply with an existing Unilateral Administrative Order (“UAO”); (5) grant a covenant not to sue for all claims against the United States; and (6) dismiss a citizen suite under CERCLA Section 310. In addition, as part of this settlement the United States agress to pay Defendants $2,000,000 to resolve the contribution claims that have been asserted against U.S. Forest Service and other federal agencies. In exchange, the United States will provide a covenant not to sue and contribution protection to all of the Defendants.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Kerr-McGee Corp., et al., Civil Action No. 04-CV-00032 (D. OR.), D.J. Ref. 90-11-2-923; 90-11-2-923/1; 90-11-6-06011; 90-11-6-06011/1.

The Consent Decree may be examined at the Office of the United States Attorney, District of Oregon, 1000 SW. Third Avenue, Suite 600 Portland, Ore. and at U.S. EPA Region 10, 1200 6th Ave, Seattle, WA. During the public comment period, the Consent Decree may be examined on the following Department of Justice Web site: http://www.usdoj.gov/enrd/open.html. A copy of the Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $13.50 (25 cents per page reproduction cost, without attachments) payable to the United States Treasury for payment.

Robert E. Maher, Jr.,
Assistant Section Chief, Environmental Enforcement Section, Environment and Natural Resources Division.

[FR Doc. 05-21361 Filed 10-25-05; 8:45 am]

BILLING CODE 4410-15-M